DEPARTMENT OF ENERGY

Federal Energy Regulatory Commission

[Docket No. CP00-59-001]

Petal Gas Storage, L.L.C.; Notice of Site Visit

May 2, 2000.

On May 11, 2000, the Office of Energy Projects staff will be conducting a precertificate inspection of the facilities proposed by Petal Gas Storage, L.L.C. (Petal) in the above-referenced docket. The inspection will begin at Petal's existing plant site near Hattiesburg, in Forrest County, Mississippi, at approximately 1:00 p.m., and proceed to examine the proposed new compressor station and pipeline route on the ground via automobile.

All parties may attend. Those planning to attend must provide their own transportation.

For further information, please contact Paul McKee of the Commission's Office of External Affairs at (202) 208-1088.

David P. Boergers,
Secretary.

[FR Doc. 00-11349 Filed 5-5-00; 8:45 am]

BILLING CODE 6717-01-M